DEPARTMENT OF TRANSPORTATION

Federal Aviation Administration

Notice of Passenger Facility Charge (PFC) Approvals and Disapprovals

AGENCY: Federal Aviation Administration (FAA), DOT.

ACTION: Monthly Notice of PFC approvals and disapprovals. In December 2002, there were seven applications approved. This notice also includes information on one application, approved in October 2002, inadvertently left off the October 2002 notice. Additionally, four approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph (d) of § 158.29.

PFC Application Approved

Public Agency: City of Worland, Wyoming.

Application Number: 02-01-C-00-WRL.

Application Type: Impose and use a PFC.

PFC Level: $4.50.

Total PFC Revenue Approved in This Decision: $70,500.

Earliest Charge Effective Date: January 1, 2003.

Estimated Charge Expiration Date: March 1, 2008.

Class of Air Carriers not Required To Collect PFC's: None.

Brief Description of Projects Approved for Collection and Use: Preliminary design engineering for runway extension, road, and canal relocation.

Acquire land for runway extension and land use protection.

Relocate obstructions—Highland Hanover Canal and county road.

Brief Description of Disapproved Project; Rehabilitate and shift runway 16/34.

Determination: As proposed, the project does not meet the requirement that it will be implemented within 2 years of approval. In addition, the proposed financial plan required Airport Improvement Program discretionary funds that the FAA did not support, thus raising questions about the financial viability of the project.

Decision Date: October 10, 2002.

FOR FURTHER INFORMATION CONTACT: Christopher Schaffer, Denver Airports District Office, (303) 342-1258.

Public Agency: Niagara Frontier Transportation Authority, Buffalo, New York.

Application Number: 02-04-C-00-BUF.

Application Type: Impose and use a PFC.

PFC Level: $3.00

Total PFC Revenue Approved in This Decision: $23,290,853.

Earliest Charge Effective Date: October 1, 2005.

Estimated Charge Expiration Date: January 1, 2010.

Class of Air Carriers not Required To Collect PFC's: Air taxi/commercial operators filing FAA Form 1800-31.

Determination: Approved. Based on information contained in the public agency's application, the FAA has determined that the approved class accounts for less than 1 percent of the total annual enplanements at Buffalo Niagara International Airport (BUF).

Brief Description of Projects Approved for Collection and Use at BUF: Relocation of security checkpoints.

Runway 14/32 safety improvement and relocation remote fuel dispensing facility.

Purchase safety equipment—aircraft rescue and firefighting/emergency response vehicles.

Passenger movement equipment.

Procurement of security equipment—vehicles.

Upgrade security badging system.

PFC planning and program administration.

Series 1999 debt service—east concourse.

Brief Description of Project Approved for Collection at BUF and Use at Niagara Falls International Airport: Purchase snow removal equipment.

Decision Date: December 11, 2002.

FOR FURTHER INFORMATION CONTACT: Eleanor Schifflin, Eastern Region Airports Division, (718) 553-3354.

Public Agency: City of Santa Barbara, California.

Application Number: 02-03-C-00-SBA.

Application Type: Impose and use a PFC.

PFC Level: $3.00

Total PFC Revenue Approved in This Decision: $2,001,560.

Earliest Charge Effective Date: May 1, 2005.

Estimated Charge Expiration Date: August 1, 2006.

Class of Air Carriers Not Required To Collect PFC's: Unscheduled Part 135 air taxi operators.

Determination: Approved. Based on information contained in the public agency's application, the FAA has determined that the approved class accounts for less than 1 percent of the total annual enplanements at Santa Barbara Municipal Airport.

Brief Description of Projects Approved For Collection and Use: Taxi B relocation. Taxiway M runway incursion project. New taxiway Q.

Brief Description of Projects Approved for Use: Extend runway safety areas. Extend taxiway A and safety areas.

Decision Date: December 12, 2002.

FOR FURTHER INFORMATION CONTACT: Kevin Flynn, Western Pacific Region Airports Division, (310) 725-3632.

Public Agency: Miami Dade Aviation Department, Miami, Florida.

Application Number: 02-04-C-00-MIA.

Application Type: Impose and use a PFC.

PFC Level: $4.50.

Total PFC Revenue Approved in This Decision: $2,420,400,341.

Earliest Charge Effective Date: March 1, 2003.

Estimated Charge Expiration Date: October 1, 2037.

Class of Air Carriers Not Required To Collect PFC's: Air taxi/commercial operators filing FAA Form 1800-31.

Determination: Approved. Based on information contained in the public agency's application, the FAA has determined that the approved class accounts for less than 1 percent of the total annual enplanements at Miami International Airport.

Brief Description of Projects Approved for Collection and Use: North terminal development. South terminal development.

Decision Date: December 12, 2002.

FOR FURTHER INFORMATION CONTACT: Miguel A. Martinez, Orlando Airports District Office, (407) 812-6331.

Public Agency: County of Jefferson, Beaumont, Texas.

Application Number: 02-04-C-00-BPT.

Application Type: Impose and use a PFC.

PFC Level: $4.50.

Total PFC Revenue Approved in This Decision: $149,300.

Earliest Charge Effective Date: March 1, 2005.

Estimated Charge Expiration Date: April 1, 2007.

Class of Air Carriers Not Required To Collect PFC's: None.

Brief Description of Projects Approved for Collection and Use: Conduct master plan update. Airport safety improvements. Acquire forward looking infrared system. PFC application and administration fees.

Brief Description of Withdrawn Project: Runway extension benefit cost analysis.

Determination: This project was withdrawn by the public agency on October 24, 2002.

Decision Date: December 17, 2002.

FOR FURTHER INFORMATION CONTACT: G. Thomas Wade, Southwest Region Airports Division, (817) 222-5613.

Public Agency: Duluth Airport Authority, Duluth, Minnesota.

Application Number: 02-06-C-00-DLH.

Application Type: Impose and use a PFC.

PFC Level: $4.50.

Total PFC Revenue Approved in This Decision: $901,280.

Earliest Charge Effective Date: April 1, 2003.

Estimated Charge Expiration Date: June 1, 2005.

Class of Air Carriers Not Required To Collect PFC'S: Non-scheduled Part 135 air taxi/commercial operators.

Determination: Approved. Based on information contained in the public agency's application, the FAA has determined that the approved class accounts for less than 1 percent of the total annual enplanements at Duluth International Airport.

Brief Description of Projects Approved for Collection and Use: Preparation of PFC application. Purchase replacement snow removal equipment. Construct snow removal equipment material storage and maintenance facility.

Decision Date: December 20, 2002.

For Further Information Contact: Gordon Nelson, Minneapolis Airports District Office, (612) 712-4358.

Public Agency: South Jersey Transportation Authority, Egg Harbor Township, New Jersey.

Application Number: 03-02-C-00-ACY.

Application Type: Impose and use a PFC.

PFC Level: $3.00.

Total PFC Revenue Approved in This Decision: $1,573,274.

Earliest Charge Effective Date: September 1, 2005.

Estimated Charge Expiration Date: June 1, 2006.

Class of Air Carries Not Required To Collect PFC'S: Non-scheduled/on demand air carriers with less than 1,200 annual enplaned passengers filing FAA Form 1800-31.

Determination: Approved. Based on information contained in the public agency's application, the FAA has determined that the approved class accounts for less than 1 percent of the total annual enplanements at Atlantic City International Airport.

Brief Description of Projects Approved for Collection and Use: Rehabilitate taxiway B—phases I and II. Acquire snow removal equipment. Improve terminal building. Improvements to airport security systems—phase II. Terminal area study.

Brief Description of Projects Approved for Use: Construct snow removal equipment building. ASR-9 relocation.

Brief Description of Projects Approved for Collection: Construct deicing containment facility. Environmental mitigation—design only.

Decision Date: December 20, 2002.

For Further Information Contact: Dan Vornea, New York Airports District Office, (516) 227-3812.

Public Agency: Brown County, Green Bay, Wisconsin.

Application Number: 02-05-C-00-GRB.

Application Type: Impose and use a PFC.

PFC Level: $4.50.

Total PFC Revenue Approved in This Decision: $23,319,000.

Earliest Charge Effective Date: April 1, 2003.

Estimated Charge Expiration Date: January 1, 2016.

Class of Air Carriers Not Required To Collect PFC'S: Air taxi/commercial operators.

Determination: Approved. Based on information contained in the public agency's application, the FAA has determined that the approved class accounts for less than 1 percent of the total annual enplanements at Austin Straubel International Airport.

Brief Description of Project Approved for Collection and Use: Air carrier terminal expansion.

Decision Date: December 20, 2002.

For Further Information Contact: Daniel J. Millenacker, Minneapolis Airports District Office, (612) 713-4359.

Amendments to PFC Approvals
Amendment No. city, state | Amendment approved date | Original approved net PFC revenue | Amended approved net PFC revenue | Original estimated charge exp. date | Amended estimated charge exp. date
99-03-C-01-JAN Jackson, MS | 12/04/02 | $5,577,870 | $11,925,562 | 04/01/03 | 02/01/07
98-03-C-01-BUR Burbank, CA. | 12/20/02 | 84,481,000 | 0 | 06/01/10 | 10/01/01
*98-02-C-02-CRP Corpus Christi, TX | 12/23/02 | 41,083,878 | 43,362,585 | 04/01/23 | 01/01/27
*99-03-C-01-TYR Tyler, TX | 12/24/02 | 1,123,700 | 1,123,700 | 10/01/09 | 04/01/08
Note: The amendments denoted by an aterisk (*) include a change to the PFC level charged from $3.00 per enplaned passenger to $4.50 per enplaned passenger. For Corpus Christi, TX, this change is effective on March 1, 2003. For Tyler, TX, this change is effective on February 1, 2004.

Issued in Washington, DC on January 22, 2003.
Barry Molar,
Manager, Airports Financial Assistance Division.

[FR Doc. 03-1875 Filed 1-27-03; 8:45 am]

BILLING CODE 4910-13-M